DEPARTMENT OF STATE

[Public Notice: 7286]

Notice of Receipt of Application for a Presidential Permit To Operate and Maintain Pipeline Facilities on the Border of the United States

Notice is hereby given that the Department of State received on May 14, 2010 an updated application from Dome Petroleum Corp., a North Dakota corporation (“Dome Petroleum”), with its registered office at 30600 Telegraph Road, Bingham Farms, Michigan 48025, and its principal offices at 240n 4th Avenue, SW., Calgary, Alberta, Canada T2P 2H8, for a Presidential permit, pursuant to Executive Order 13337 of April 30, 2004, to operate and maintain six (6) cross-border pipelines Dome Petroleum acquired from Dome Pipeline Corporation (“Dome Pipeline”). These pipelines carry, or are permitted to carry, liquefied hydrocarbons under pressure between the United States and Canada. The pipelines cross from the City of Sarnia in Canada to the United States underneath the St. Clair River, terminating on the American shore in the City of Marysville, Michigan at a property commonly known as Tax Parcel No. 74-03-032-2002-000, and also underneath the adjacent River Road.

According to the application, on March 15, 2007, Dome Pipeline was sold to Kinder Morgan Energy Partners LP, a master limited partnership with its principal office in Houston, Texas, by Dome Petroleum, the former parent corporation of Dome Pipeline. The application states that the sale was a stock sale, with the provision that some of the assets held by Dome Pipeline were to be transferred back to its former parent Dome Petroleum, and that, under the terms of the sale, the ownership of the pipelines which are the subject of this Application, and any related permits, easements, licenses and leases, were transferred back to Dome Petroleum.

Because of the transfer of ownership of the pipelines and related real properties, leases, licenses, easements and permits, Dome Petroleum now seeks to have new permits issued in its name to reflect the transfer of ownership of the pipelines and permission to operate, maintain and repair these pipelines underneath the St. Clair River.

The present Application would supersede an authorization to cross the border granted by President Woodrow Wilson on June 10, 1918 with regard to permit No. 88253/18 granted by the Secretary of War on June 8, 1918 for two pipelines (discussed below—Two Pipelines). It would also cover four additional pipelines permitted from the U.S. Army Corps of Engineers (discussed below—Four Pipelines).

Existing Permit No. 88253/18—Two Pipelines

A permit for two pipelines to cross the international border was issued by the U.S. Secretary of War to the Imperial Pipe Line Company on June 8, 1918. According to records provided with the application, the Imperial Pipeline Company assigned its pipeline permit rights to the Transit and Storage Company on December 28, 1936 and the Transit and Storage Company was acquired by Buckeye Pipe Line Company in 1953. The records also appear to show that Buckeye Pipe Line sold these pipelines to Dome Pipeline Corporation on June 28, 1971. The records provided to the Department with the application also include a letter from the Office of the Legal Adviser at the U.S. State Department dated June 1, 1971, acknowledging notice of the sale to Dome Petroleum and not objecting to the sale/purchase of the two pipelines.

The existing permit allows these pipelines to transport crude oil. However, according to the application, the pipelines are not actively carrying product currently, but rather are being held in reserve to be used in the event of an increase in demand or as backup to the active pipelines operated under Permit 73-12-19 (discussed below). The application states that the pipelines are not abandoned but are maintained under pressure with an inert gas, and continue to receive cathodic protection to protect against corrosion.

Existing Permit No. 73-12-19—Four Pipelines

On October 16, 1973, Dome Pipeline Corporation received Permit No. 73-12-19 from the U.S. Army Corps of Engineers (COE) to construct up to four (4) additional pipelines to carry liquefied hydrocarbons. According to the application, all four (4) pipelines were constructed prior to the December 31, 1976 deadline set forth in Permit 73-12-19. The application goes on to state, however, that only two of these pipelines currently actively transport liquefied hydrocarbons under pressure and that the remaining two pipelines are being held in reserve to be used in the event of an increase in demand or alternate method of transporting product is required. The application asserts that the latter two pipelines are not abandoned but rather are maintained under pressure with an inert gas, and continue to receive cathodic protection to protect against corrosion.

According to the Federal Register notice issued on May 31, 2005, transferee entities are required to submit applications for new permits that contain “information explaining the nature of the entity, its ownership, its place of incorporation or organization, information concerning its acquisition of relevant facility, bridge or border crossing from the prior permit holder and any other relevant information concerning its operation of the facility, bridge or border crossing.” (70 FR 30990). In addition, the notice provides that, if the “transferee commits to abiding by the relevant terms and conditions of the previously-issued permit and further indicates that the operations of the relevant facility, bridge or border crossing will remain essentially unchanged from that previously permitted, the Department of State, pursuant to 22 CFR 161 .7(b)(3), does not intend to conduct an environmental review of the application under its regulations implementing the National Environmental Policy Act, 22 CFR part 161, unless information is brought to its attention in connection with the application process that the transfer potentially would have a significant impact on the quality of the human environment.”

According to the application, Dome Petroleum has, in written correspondence to the Department of State, committed to abide by the relevant terms and conditions of the permits previously issued to Dome Pipeline or its predecessors-in-interest with regard to these six (6) pipelines. Further, Dome Petroleum has indicated in correspondence that there have been no substantial changes in the operations of all six (6) pipelines than those originally authorized and further stated that the future operation of the pipelines will remain essentially unchanged from that previously permitted. Therefore, in accordance with 22 CFR 161.7(b)(3) and the Department's Procedures for Issuance of a Presidential Permit Where There Has Been a Transfer of the Underlying Facility, Bridge or Border Crossing for Land Transportation (70 FR 30990, May 31, 2005), the Department of State does not intend to conduct an environmental review of the application unless information is brought to its attention that the transfer potentially would have a significant impact on the quality of the human environment.

As required by E.O. 13337, the Department of State is circulating this application to concerned Federal agencies for comment.

DATES: Interested parties are invited to submit, in duplicate, comments relative to this application on or before February 4, 2011 to Michael P. Stewart, Office of International Energy and Commodity Policy (EB/ESC/IEC/EPC), Department of State, Washington, DC 20520; or by telephone at (202) 647-1291; or by e-mail at StewartMP@State.gov. The application and related documents that are part of the record to be considered by the Department of State in connection with this application are available for inspection in the Office of International Energy and Commodities Policy during normal business hours.

FOR FURTHER INFORMATION CONTACT: For information regarding environmental concerns and permitting, contact Alex Yuan at (202) 647-4284; or by e-mail at YuanAW@State.gov. For all other concerns, contact Michael P. Stewart, Office of International Energy and Commodity Policy (EB/ESC/IEC/EPC), Department of State, Washington, DC 20520; or by telephone at (202) 647-1291; or by e-mail at StewartMP@State.gov.

Dated: December 29, 2010.
Stephen J. Gallogly,
Director, Office of International Energy and Commodity Policy, Department of State.

[FR Doc. 2010-33297 Filed 1-4-11; 8:45 am]

BILLING CODE 4710-07-P